DEPARTMENT OF COMMERCE

International Trade Administration

[A-570-802]

Antidumping or Countervailing Duty Order, Finding, or Suspended Investigation; Amended Advance Notification of Sunset Reviews

AGENCY: Import Administration, International Trade Administration, Department of Commerce.

SUMMARY: This is an amendment to the notice of Antidumping or Countervailing Duty Order, Finding, or Suspended Investigation; Advance Notification of Sunset Reviews, 70 FR 25537 (May 13, 2005) (Advance Notification).

EFFECTIVE DATE: May 25, 2005.

FOR FURTHER INFORMATION CONTACT: Zev Primor, Office 4, AD/CVD Operations, Import Administration, International Trade Administration, U.S. Department of Commerce, 14th Street and Constitution Avenue, NW, Washington DC 20230; telephone (202) 482-4114.

Background

On May 13, 2005, the Department of Commerce (the Department) published in the Federal Register a list of sunset reviews scheduled for initiation in June 2005. See Advanced Notification. In the above-referenced notice, the antidumping order on Sparklers from the People's Republic of China (A-570-804) was inadvertently omitted. We are amending the above-referenced notice by including the antidumping order on Sparklers from the People's Republic of China.

This notice is not required by statute but is published as a service to the international trading community.

Dated: May 20, 2005.
Holly A. Kuga,
Senior Office Director AD/CVD Operations, Office 4 for Import Administration.

[FR Doc. E5-2652 Filed 5-24-05; 8:45 am]

BILLING CODE 3510-DS-S